DEPARTMENT OF HEALTH AND HUMAN SERVICES

Administration for Children and Families

Proposed Information Collection Activity; Comment Request

Proposed Projects

Title: Child Care and Development Fund Plan for Tribes for FFY 2017-2019 (ACF-118-A).

OMB No.: 0970-0198.

Description: The Child Care and Development Fund (CCDF) Plan (the Plan) for Tribes is required from each CCDF Lead Agency in accordance with Section 658E of the Child Care and Development Block Grant (CCDBG) Act, as amended, by Public Law 113-186 and U.S.C. 9858. The Plan provides ACF and the public with a description of, and assurances about, the Tribes' child care programs.

On November 19, 2014, the President signed the CCDBG Act of 2014 into law. The law (Pub. L. 113-186) made significant changes to the CCDF Program to protect the health and safety of children in child care, promote continuity of access to subsidy for low-income families, better inform parents and the general public about the child care choices available to them, and improve the overall quality of early learning and afterschool programs. The Act does not indicate the extent to which CCDF provisions apply to Tribes. Starting in early 2015, OCC began a series of formal consultations with Tribal leaders to determine how the provisions in newly reauthorized child care law would apply to Tribes and Tribal organizations. The Notice of Proposed Rule Making for the CCDF program was issued on December 24, 2015 for public comment. Pending the issuance of new CCDF regulations and guidance for Tribes, Tribes will follow the current CCDF regulations.

OCC issued a Program Instruction to notify Tribes that OCC will be extending the approved FY 2014-2015 Tribal Plans for one year. Also, please note that the CCDBG Act changed the Plan cycle for all CCDF Plans from a 2 year to a 3 year plan period. The new deadline for FY 2017-2019 Plan submission is July 1, 2016.

The revised Plan (ACF-118A) has been organized into the following seven critical areas:

• Define CCDF Leadership and Coordination with Relevant systems.

• Provide Stable Child Care Financial Assistance to Families.

• Ensure Equal Access to high Quality Child Care for Low-Income Children.

• Ensuring the Health and Safety of Children in Child Care Settings.

• Supporting Continuous Quality Improvement.

• Program Integrity and Accountability.

• Tribal CCDF Funding.

Section 8, an Optional Abbreviated Plan for Tribes Receiving Small Allocations was added for Tribes or Tribal consortia whose annual CCDF allocation is less than $250,000. Small Tribes that select this option are not required to complete Sections 1-7 of the Plan preprint.

In making the revisions, consideration was given to minimize the burden of the collection of information on respondents.

Respondents

Annual Burden Estimates
Instrument | Number of respondents | Number of responses per respondent | Average burden hours per response | Total burden hours
CCDF Print | 257 | 0.50 | 120 | 15,420

Estimated Total Annual Burden Hours:

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-00840 Filed 1-15-16; 8:45 am]

BILLING CODE 4184-01-P